DEPARTMENT OF AGRICULTURE

Forest Service

Amador County Resource Advisory Committee

AGENCY: Forest Service, USDA.

ACTION: Notice of meeting.

SUMMARY: The Amador County Resource Advisory Committee will meet in Sutter Creek, California. The committee is authorized under the Secure Rural Schools and Community Self-Determination Act (Pub. L. 112-141) (the Act) and operates in compliance with the Federal Advisory Committee Act. The purpose of the committee is to improve collaborative relationships and to provide advice and recommendations to the Forest Service concerning projects and funding consistent with the title II of the Act. The meeting is open to the public. The purpose of the meeting is to discuss the committee's processes and procedures, review applications, and make recommendations for projects to be approved.

DATES: The meeting will be held September 20, 2012, 6 p.m.

ADDRESSES: The meeting will be held at the Amador County Public Health Building, Conference Room A; 10877 Conductor Road, Sutter Creek, CA.

Written comments may be submitted as described under SUPPLEMENTARY INFORMATION. All comments, including names and addresses when provided, are placed in the record and are available for public inspection and copying. The public may inspect comments received at Eldorado National Forest Headquarters Office; 100 Forni Road, Placerville, CA. Please call ahead to (530) 622-5061 to facilitate entry into the building to view comments.

FOR FURTHER INFORMATION CONTACT: Frank Mosbacher, Resource Advisory Committee Coordinator, Forest headquarters, 100 Forni Road, Placerville, CA (530) 621-5268, TTY (530) 642-5122, fmosbacher@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The following business will be conducted: review and discuss the committee's processes and procedures, review project proposals, and make recommendations for projects to be approved. The full agenda will be posted on the Web at: https://fsplaces.fs.fed.us/fsfiles/unit/wo/secure_rural_schools.nsf/Web_Agendas?OpenView&Count=1000&RestrictToCategory=Amador+County. Anyone who would like to bring related matters to the attention of the committee may file written statements with the committee staff before the meeting. The agenda will include time for people to make oral statements of three minutes or less. Individuals wishing to make an oral statement should request in writing by September 18, 2012 to be scheduled on the agenda. Written comments and requests for time for oral comments must be sent to Frank Mosbacher, RAC Coordinator; 100 Forni Road; Placerville, CA 95667 or by email to fmosbacher@fs.fed.us, or via facsimile to 530-621-5297. A summary of the meeting will be posted at https://fsplaces.fs.fed.us/fsfiles/unit/wo/secure_rural_schools.nsf/Web_Agendas?OpenView&Count=1000&RestrictToCategory=Amador+County within 21 days of the meeting.

Meeting Accommodations: If you require sign language interpreting, assistive listening devices or other reasonable accommodation please request this in advance of the meeting by contacting the person listed in the section titled FOR FURTHER INFORMATION CONTACT. All reasonable accommodation requests are managed on a case by case basis.

Dated: August 28, 2012.
Kathryn D. Hardy,
Forest Supervisor, Eldorado National Forest.

[FR Doc. 2012-21648 Filed 8-31-12; 8:45 am]

BILLING CODE 3410-11-P